DEPARTMENT OF ENERGY

Federal Energy Regulatory Commission

[Docket No. ER02-2001-000]

Electric Quarterly Reports; Revised Public Utility Filing Requirements; Notice of Extension of Time

February 11, 2003.

On December 19, 2002, the Commission issued Order 2001-C (published 12/27/02, Vol. 67 FR 79077), requiring future Electric Quarterly Reports to be filed using the new Electric Quarterly Report Submission Software. The fourth quarter Electric Quarterly Reports were originally due to be filed on or before January 31, 2003. This deadline was previously extended to February 14, 2003.

On February 10, 2003, a bug was found in the program that inactivated some of the error checking on imported transaction data. The submission capability was temporarily disabled in order to preclude erroneous data from being filed at the Commission. A new version of the software was released today which reactivated the edit checks. This version will be automatically uploaded to the respondents' computers upon opening the Electric Quarterly Report application. Utilities that had previously imported data which passed the data integrity checks may find that some of their data will not pass the current edits.

In consideration of this situation, we would like to allow utilities more time to correct their data to ensure that they can file successfully. Notice is hereby given that the time to file the fourth quarter 2002 Electric Quarterly Report is extended to and including February 21, 2003.

Magalie R. Salas,
Secretary.

[FR Doc. 03-4006 Filed 2-18-03; 8:45 am]

BILLING CODE 6717-01-P